DEPARTMENT OF LABOR

Employment and Training Administration

[TA-W-85,371]

Contacts Metals and Welding, Inc., Indianapolis, Indiana; Notice of Affirmative Determination Regarding Application for Reconsideration

By application dated October 10, 2014, the IUE-CWA, Local 84001, requested administrative reconsideration of the negative determination regarding workers' eligibility to apply for Trade Adjustment Assistance (TAA) applicable to workers and former workers of Contacts Metals and Welding, Inc., Indianapolis, Indiana (subject firm). The determination was issued on August 28, 2014. The Department's Notice of determination was published in the Federal Register on September 11, 2014 (79 FR 54298). Workers at the subject firm were engaged in activities related to the production of resistance welding consumables and accessories, such as welding tips and holders.

The negative determination was based on the Department's findings that during the course of the investigation, the Department received information which establishes that BGA Management, LCC (doing business as Alliance Management) is the Court-appointed receiver for CMW International, LLC; that CMW International, LLC is the successor-in-interest to CMW International, Inc.; that the afore-mentioned entities have the same address as Contacts Metals and Welding, Inc.; that the Court-appointed receiver was authorized to sell assets, including the right to sell products under the Contacts Metals and Welding, Inc./CMW brand; and that the entity(s) selling products under the CMW brand are not successor-in-interest to either CMW International, LLC, CMW International, Inc., or Contacts Metals and Welding, Inc.

With respect to Section 222(a)(2)(B) of the Act, the Department did not receive information that Contacts Metals and Welding, Inc. shifted production of resistance welding consumables and accessories, or like or directly competitive articles, to a foreign country.

With respect to Section 222(a)(2)(A)(ii), the Department did not receive information that imports of articles like or directly competitive with the resistance welding consumables and accessories produced by Contacts Metals and Welding, Inc. increased during the relevant period.

With respect to Section 222(b)(2) of the Act, the Department did not receive information that Contacts Metals and Welding, Inc. was a Supplier to, or act as a Downstream Producer for, a firm that employed a group of workers who received a certification of eligibility under Section 222(a) of the Act, 19 U.S.C. 2272(a), based on an increase in imports from, or a shift in production to, Canada or Mexico.

The request for reconsideration states “The Union has, since the negative determination, been reaching out to secure better contact information . . . We are submitting that information so that a more comprehensive re-investigation can be conducted.” The request for reconsideration also alleged that production shifted to various foreign countries including Mexico, Canada, Germany, and China. In addition, the request for reconsideration included contact information for a union representative and several former company officials to assist with the reconsideration.

The Department has carefully reviewed the request for reconsideration and the existing record, and will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 9th day of December 2014.
Michael W. Jaffe
Certifying Officer, Office of Trade Adjustment Assistance.

[FR Doc. 2014-29317 Filed 12-15-14; 8:45 am]

BILLING CODE 4510-FN-P